NUCLEAR REGULATORY COMMISSION

Advisory Committee on Nuclear Waste; Notice of Meeting

The Advisory Committee on Nuclear Waste (ACNW) will hold its 157th meeting on February 23-25, 2005, Room T-2B3, 11545 Rockville Pike, Rockville, Maryland. The date of this meeting was previously published in the Federal Register on Wednesday, December 8, 2004 (69 FR 71084).

The schedule for this meeting is as follows:

Wednesday, February 23, 2005

10:30 a.m.-10:40 a.m.: Opening Statement (Open)—The ACNW Chairman will open the meeting with brief opening remarks, outline the topics to be discussed, and indicate items of interest.

10:40 a.m.-11:20 a.m.: ACNW 2005 Action Plan (Open)—The ACNW Committee will discuss changes to the 2005 Action Plan resulting from COMSECY-04-0077, dated January 19, 2005.

11:20 a.m.-12:20 p.m.: Time-of-Compliance for a Proposed High-Level Waste (HLW) Repository (Open)—The Committee will continue its discussions on time-of-compliance for a proposed HLW and determine the need and timing of a possible Working Group Meeting on this subject.

1:20 p.m.-3 p.m.: Low-Level Radioactive Waste (LLW) Issues (Open)—The Committee will be briefed by the Chairman on the current status of LLW management in the U.S. and LLW issues faced by the industry, regulators and stakeholders.

3 p.m.-5:30 p.m.: Preparation for Meeting with the NRC Commissioners (Open)—The Committee will discuss the proposed presentation topics for its meeting with the NRC Commissioners, which is scheduled to be held between 9:30 a.m. and 11:30 a.m. on Wednesday, March 16, 2005.

Thursday, February 24, 2005

8:30 a.m.-8:35 a.m.: Opening Statement (Open)—The ACNW Chairman will make opening remarks regarding the conduct of today's sessions.

8:35 a.m.-9:25 a.m.: Status of High-Significance Agreements Associated with the Proposed High-Level Waste Repository (Open)—The Committee will be briefed by an NRC representative on the status of high-significance agreements between NRC and DOE concerning the proposed HLW repository at Yucca Mountain.

9:25 a.m.-10:15 a.m.: Preparation of ACNW Reports (Open)—The Committee will discuss proposed ACNW reports on the Agreement State Program and Resolution of High-Significance Agreements.

10:30 a.m.-12 Noon: Discussion with Commissioner Merrifield (Open)—The Committee will interact with Commissioner Merrifield on areas of mutual interest in the waste management area.

1 p.m.-5:30 p.m.: Center for Nuclear Waste Regulatory Analyses (CNWRA) Report—Accomplishments and Future Projects (Open)—The Committee will be briefed by NMSS and the CNWRA representatives regarding recent technical accomplishments and future project plans of NRC's technical assistance contractor.

Friday, February 25, 2005

8:30 a.m.-8:35 a.m.: Opening Statement (Open)—The ACNW Chairman will make opening remarks regarding the conduct of today's sessions.

8:35 a.m.-9:45 a.m.: Preparation of ACNW Reports (Open)—The Committee will continue its discussion of proposed ACNW reports on the Agreement State Program and Resolution of High-Significance Agreements.

9:45 a.m.-12 Noon: Miscellaneous (Open)—The Committee will discuss matters related to the conduct of Committee activities and matters and specific issues that were not completed during previous meetings, as time and availability of information permit. Discussions may include forthcoming meeting with Commissioners (Agenda Item #5).

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Mr. Michael P. Lee, (Telephone 301-415-6887), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Lee as to their particular needs.

Further information regarding topics to be discussed, whether the meeting has been canceled or rescheduled, the Chairman's ruling on requests for the opportunity to present oral statements and the time allotted, therefore can be obtained by contacting Mr. Lee.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

Dated: February 1, 2005.
Andrew L. Bates,
Advisory Committee Management Officer.

[FR Doc. 05-2245 Filed 2-4-05; 8:45 am]

BILLING CODE 7590-01-P